DEPARTMENT OF LABOR

Employment and Training Administration

TA-W-71,375

AK Steel Corporation, Mansfield Works Division, Including On-Site Leased Workers From Time Customized Staffing Solutions, Mansfield, OH; Notice of Revised Determination on Reconsideration

On January 8, 2010, the Department issued an Affirmative Determination Regarding Application for Reconsideration applicable to workers and former workers of the subject firm. The notice of affirmative determination was published in the Federal Register on February 1, 2010 (75 FR 5145).

The initial investigation, initiated on June 24, 2009, resulted in a negative determination, issued on November 2, 2009, that was based on the finding that imports did not contribute importantly to worker separations at the subject firm and no shift in production to a foreign country occurred. The notice of negative determination was published in the Federal Register on January 25, 2010 (75 FR 3935).

To support the request for reconsideration, the petitioner supplied additional information regarding the customers of the subject firm to supplement that which was gathered during the initial investigation.

During the reconsideration investigation, the Department requested an additional list of customers from the subject firm and conducted a customer survey to determine whether imports of steel coils negatively impacted employment at AK Steel Corporation, Mansfield Works Division, Mansfield, Ohio.

The survey of the subject firm's major declining customers revealed that the customers increased their imports of steel coils while decreasing purchases from the subject firm from 2007 to 2008.

Conclusion

After careful review of the additional facts obtained on reconsideration, I determine that workers of AK Steel Corporation, Mansfield Works Division, including on-site leased workers from Time Customized Staffing Solutions, Mansfield, Ohio, who are engaged in employment related to the production of steel coils, meet the worker group certification criteria under Section 222(a) of the Act, 19 U.S.C. 2272(a). In accordance with Section 223 of the Act, 19 U.S.C. 2273, I make the following certification:

All workers of AK Steel Corporation, Mansfield Works Division, including on-site leased workers from Time Customized Staffing Solutions, Mansfield, Ohio, who became totally or partially separated from employment on or after June 23, 2008, through two years from the date of this certification, and all workers in the group threatened with total or partial separation from employment on date of certification through two years from the date of certification, are eligible to apply for adjustment assistance under Chapter 2 of Title II of the Trade Act of 1974, as amended.

Signed in Washington, DC, this 18th day of February, 2010.
Elliott S. Kushner,
Certifying Officer, Division of Trade Adjustment Assistance.

[FR Doc. 2010-4245 Filed 3-1-10; 8:45 am]

BILLING CODE 4510-FN-P